FEDERAL ELECTION COMMISSION

[Notice 2014-05]

Filing Dates for the Florida Special Elections in the 19th Congressional District

AGENCY: Federal Election Commission.

ACTION: Notice of filing dates for special election.

SUMMARY: Florida has scheduled special elections on April 22, 2014, and June 24, 2014, to fill the U.S. House of Representatives seat vacated by Representative Trey Radel.

Committees required to file reports in connection with the Special Primary Election on April 22, 2014, shall file a 12-day Pre-Primary Report. Committees required to file reports in connection with both the Special Primary and the Special General Election on June 24, 2014, shall file a 12-day Pre-Primary Report, 12-day Pre-General Report and a Post-General Report.

FOR FURTHER INFORMATION CONTACT: Ms. Elizabeth S. Kurland, Information Division, 999 E Street NW., Washington, DC 20463; Telephone: (202) 694-1100; Toll Free (800) 424-9530.

SUPPLEMENTARY INFORMATION:

Principal Campaign Committees

All principal campaign committees of candidates who participate in the Florida Special Primary and Special General Elections shall file a 12-day Pre-Primary Report on April 10, 2014; a 12-day Pre-General Report on June 12, 2014; and a Post-General Report on July 24, 2014. (See charts below for the closing date for each report.)

All principal campaign committees of candidates participating only in the Special Primary Election shall file a 12-day Pre-Primary Report on April 10, 2014. (See charts below for the closing date for each report.)

Unauthorized Committees (PACs and Party Committees)

Political committees filing on a quarterly basis in 2014 are subject to special election reporting if they make previously undisclosed contributions or expenditures in connection with the Florida Special Primary or Special General Elections by the close of books for the applicable report(s). (See chart below for the closing date for each report).

Committees filing monthly that make contributions or expenditures in connection with the Florida Special Primary or General Elections will continue to file according to the monthly reporting schedule.

Additional disclosure information in connection with the Florida Special Elections may be found on the FEC Web site at http://www.fec.gov/info/report_ dates.shtml.

Disclosure of Lobbyist Bundling Activity

Principal campaign committees, party committees and Leadership PACs that are otherwise required to file reports in connection with the special elections must simultaneously file FEC Form 3L if they receive two or more bundled contributions from lobbyists/registrants or lobbyist/registrant PACs that aggregate in excess of $17,300 during the special election reporting periods (see charts below for closing date of each period). 11 CFR 104.22(a)(5)(v) and (b).

Calendar of Reporting Dates for Florida Special Election
Report | Close of books ¹ | Reg./cert. & overnight mailing deadline | Filing deadline
Committees Involved in Only the Special Primary (04/22/14) Must File:
Pre-Primary | 04/02/14 | 04/07/14 | 04/10/14
April Quarterly | —WAIVED —
July Quarterly | 06/30/14 | 07/15/14 | 07/15/14
Committees Involved in Both the Special Primary (04/22/14) and Special General (06/24/14) Must File:
Pre-Primary | 04/02/14 | 04/07/14 | 04/10/14
April Quarterly | —WAIVED—
Pre-General | 06/04/14 | 06/09/14 | 06/12/14
July Quarterly | —WAIVED—
Post-General | 07/14/14 | 07/24/14 | 07/24/14
October Quarterly | 09/30/14 | 10/15/14 | 10/15/14
Committees Involved in Only the Special General (06/24/14) Must File:
Pre-General | 06/04/14 | 06/09/14 | 06/12/14
July Quarterly | —WAIVED—
Post-General | 07/14/14 | 07/24/14 | 07/24/14
October Quarterly | 09/30/14 | 10/15/14 | 10/15/14
¹ The reporting period always begins the day after the closing date of the last report filed. If the committee is new and has not previously filed a report, the first report must cover all activity that occurred before the committee registered as a political committee up through the close of books for the first report due.

Dated: February 6, 2014.
On behalf of the Commission.
Lee E. Goodman,
Chairman, Federal Election Commission.

[FR Doc. 2014-03131 Filed 2-12-14; 8:45 am]

BILLING CODE 6715-01-P